DEPARTMENT OF HEALTH AND HUMAN SERVICES

Centers for Disease Control and Prevention

The National Institute for Occupational Safety and Health (NIOSH) of the Centers for Disease Control and Prevention (CDC) Announces the Following Meeting

Name: Workshop to Suggest National Priorities for Asphalt Roofing and Paving Fumes Health Effects and Exposure Reduction Research.

Times And Dates: 10 a.m.—5 p.m., September 11, 2000; 8:30 a.m.—3 p.m., September 12, 2000.

Location: Regal Cincinnati Hotel, 150 West 5th Street, Cincinnati, Ohio 45202-2393.

Status: Open to the public, limited only by the space available. The meeting room accommodates approximately 75 people.

Purpose: To discuss current knowledge and gaps regarding asphalt health effects and exposure reduction research, and to suggest priorities for filling identified gaps.

Matters To Be Discussed: The agenda will include a brief plenary session followed by working group discussions of the following research areas: (1) Sampling and analytical, (2) toxicology and laboratory, (3) human studies and epidemiology and (4) control technology. Viewpoints and suggestions from industry, labor, academia, government agencies and the public are invited.

Agenda items are subject to change as priorities dictate.

Contact Person for Additional Information: Frankie Smith, Office of the Director, Division of Applied Research and Technology, NIOSH, CDC, m/s R-2, 4676 Columbia Parkway, Cincinnati, OH 45226. Telephone (513) 458-7102, Email Fsmith@cdc.gov.

The Director, Management Analysis and Services office has been delegated the authority to sign Federal Register notices pertaining to announcements of meetings and other committee management activities, for both the Centers for Disease Control and Prevention and the Agency for Toxic Substances and Disease Registry.

Dated: July 26, 2000.
Carolyn J. Russell,
Director, Management Analysis and Services Office, Centers for Disease Control and Prevention.

[FR Doc. 00-19884 Filed 8-4-00; 8:45 am]

BILLING CODE 4163-18-P